DEPARTMENT OF ENERGY

Federal Energy Regulatory Commission

[Docket No. RP08-30-000]

O'Connor & Hewitt, LTD., Complainant v. Energy Transfer Partners, L.P., La Grange Acquisition, L.P., d/b/a, Energy Transfer Company, ETC Marketing, Ltd., Houston Pipeline Company and Energy Transfer Equity, L.P.; Notice of Complaint

October 25, 2007.

Take notice that on October 24, 2007, O'Connor & Hewitt, LTD., (O'Connor) filed a formal complaint against Energy Transfer Partners, L.P., La Grange Acquisition, L.P., d/b/a Energy Transfer Company, ETC Marketing, Ltd., Houston Pipeline Company, and Energy Transfer Equity, L.P. (collectively, ETP) pursuant to 15 U.S.C. 717o, 18 CFR 385.206, and 18 CFR 284.403 (2005), alleging that (1) ETP violated the Natural Gas Act (NGA) by failing to make its sales for resale at the Houston Ship Channel (HSC) at negotiated rates; (2) ETP intentionally engaged in market manipulation in violation of 18 CFR 284.403 (2005) (Market Behavior Rule 2) and 18 CFR 1c.1 (2006) (Part 1c); (3) ETP knowingly submitted misleading trade data to Platts for it to include in its calculation of the Inside FERC HSC Index in violation of Part 284; and (4) ETP's violations of the NGA and the Commission's Rules caused O'Connor to suffer quantifiable economic losses.

O'Connor certifies that copies of the complaint were served on ETP's attorneys and contacts listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 8, 2007.

Kimberly D. Bose,
Secretary.

[FR Doc. E7-21479 Filed 10-31-07; 8:45 am]

BILLING CODE 6717-01-P